DEPARTMENT OF HEALTH AND HUMAN SERVICES

Office of Inspector General

Program Exclusions: May 2004

AGENCY: Office of Inspector General, HHS.

ACTION: Notice of program exclusions.

During the month of May 2004, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
Program-Related Convictions: | Alvarez, Humberto | Miami, FL | 6/17/2004
Alvero, German | Hialeah, FL | 6/17/2004
Anderson, Cathy | Dublin, CA | 6/17/2004
Baluch, Abdul | Beaumont, TX | 6/17/2004
Baum, Richard | Hood, CA | 6/17/2004
Bedi, Surindar | Treasure Island, FL | 6/17/2004
Brown, Patricia | Alburg, VT | 6/17/2004
Castellano, Dolores | Miami, FL | 6/17/2004
Chuldzhyan, Gevork | Sacramento, CA | 6/17/2004
Coll, Gustavo | Edgefield, SC | 6/17/2004
De Lamar, Rene | Miami, FL | 6/17/2004
Eads Mullins, Tracie | Celina, TN | 6/17/2004
Edmonds, Margaret | McComb, MS | 6/17/2004
Elbashir, Imad | Trenton, NJ | 6/17/2004
Evans, Cheryl | Portland, OR | 6/17/2004
Flores, Serafin | Big Spring, TX | 6/17/2004
Franklin, Kimberly | Lebanon, TN | 6/17/2004
Garcia, Yegort | Hialeah, FL | 6/17/2004
Gonzalez, Arnaldo | Hialeah, FL | 6/17/2004
Hostetler, Terri | Marysville, OH | 6/17/2004
I Dennis Potocsky, DDS, PC | Melvindale, MI | 6/17/2004
Incer, Ana | Miami, FL | 6/17/2004
Jefferson, Michael | Los Angeles, CA | 6/17/2004
Johnson, Stanley | Atlanta, GA | 6/17/2004
Kantor, Sheldon | Miami, FL | 6/17/2004
Ku, Jay | Long Beach, CA | 6/17/2004
Mesa, Eduardo | Hialeah, FL | 6/17/2004
Miller, Chadd | Miami Beach, FL | 6/17/2004
Mirchou, Liliana | Las Vegas, NV | 6/17/2004
Mompie, Mariana | Miami, FL | 6/17/2004
Monduy, Juan | Hialeah, FL | 6/17/2004
Morales, Eugenio | Miami, FL | 6/17/2004
Neff, Todd | Red Lion, PA | 6/17/2004
Pacheco, Orlando | Miami, FL | 6/17/2004
Poggioli, Stephan | Linden, NJ | 6/17/2004
Reed, Theresa | Milwaukee, WI | 6/17/2004
Rodriguez, Alfredo | Miami, FL | 6/17/2004
Singh, Arvinder | Fairton, NJ | 6/17/2004
Souaid, Victor | Miami, FL | 6/17/2004
Vital Care Pharmaceutical Corp | Staten Island, NY | 6/17/2004
Wimbish, Danielle | Stone Mountain, GA | 6/17/2004
Felony Conviction for Health Care Fraud:
Chime, Deborah | Corning, OH | 6/17/2004
Dickson, Richard | Leavittsburg, OH | 6/17/2004
Fryman, Michael | Louisville, KY | 6/17/2004
Gardiner, Michael | Elizabeth, NJ | 6/17/2004
Lucia, Jamie | Los Altos, CA | 6/17/2004
Palmer, Cheryl | Little Rock, AR | 6/17/2004
Robinson, KIM | Elizabeth, NJ | 6/17/2004
Felony Control Substance Conviction:
Brousseau, Gregory | Ontario, CZ | 6/17/2004
Derosia, Lori | N Fort Myers, FL | 6/17/2004
Egli, Sandra | Ankeny, IA | 6/17/2004
Musial, Thomas | Thousand Oaks, CA | 6/17/2004
Nalbone, Philip | Trenton, NJ | 6/17/2004
Peterson, Shelley | Marion, IA | 6/17/2004
Sledd, Gayla | Ruckersville, VA | 6/17/2004
Taylor, James | Riverside, CA | 6/17/2004
Wilson, Aisha | National City, CA | 6/17/2004
Patient Abuse/Neglect Convictions:
American Healthcare Mgmt, Inc | Chesterfield, MO | 6/17/2004
Bigornia, Virginia | Waipahu, HI | 6/17/2004
Claiborne, Timothy | Rockledge, FL | 6/17/2004
Claywest House Healthcare, LLC | Chesterfield, MO | 6/17/2004
Costley, Betty | Woodbine, MD | 6/17/2004
Crouch, Howard | Charleston, WV | 6/17/2004
Deenadayalu, Venkatesan | Naperville, IL | 6/17/2004
Feagin, Clarence | Richmond, CA | 6/17/2004
McMillan, Derrick | Laurel, MS | 6/17/2004
Moton, Kevin | Tuscaloosa, AL | 6/17/2004
Reddy, Rebala | Alden, NY | 6/17/2004
Watts, Lawanda | Hattiesburg, MS | 6/17/2004
Wiggins, Michael | Sneads, FL | 6/17/2004
License Revocation/Suspension/Surrendered:
Adams, Pamela | Attalia, AL | 6/17/2004
Alger, James | Luray, VA | 6/17/2004
Allison, Sandra | Birmingham, AL | 6/17/2004
Alvarez, Mark | Cranston, RI | 6/17/2004
Ashkar, Michael | Eatontown, NJ | 6/17/2004
Avery, Alfred | Billings, MT | 6/17/2004
Baayen, Peggy | Blanca, CO | 6/17/2004
Baggett, Lynn | Oklahoma City, OK | 6/17/2004
Barrett, Vanessa | Yakima, WA | 6/17/2004
Barrow, Holly | King of Prussia, PA | 6/17/2004
Bedard, Ellen | Douglas, MA | 6/17/2004
Bertani, Peter | Rumford, RI | 6/17/2004
Borchardt, Karen | N Charleston, SC | 6/17/2004
Bradley, Mary | Salem, VA | 6/17/2004
Brant, Gloria | Tucson, AZ | 6/17/2004
Brown, Robert | Miami, FL | 6/17/2004
Brown, Sharon | Sarasota, FL | 6/17/2004
Butler, Shirley | Atlanta, GA | 6/17/2004
Cappello, Nicholas | Manchester, MA | 6/17/2004
Carone, Lawrence | Wattsburg, PA | 6/17/2004
Coker, Dawn | Phoenix, AZ | 6/17/2004
Conklin, Janet | New Milford, PA | 6/17/2004
Costa, Arminda | Pawtucket, RI | 6/17/2004
Crawford, Elaine | Sicklerville, NJ | 6/17/2004
Crowder, Jason | Birmingham, AL | 6/17/2004
Crowe, Sandra | Ragland, AL | 6/17/2004
Culp, Stephanie | Nampa, ID | 6/17/2004
Daley, Mary | Waltham, MA | 6/17/2004
Edmondson, Justina | Chattanooga, TN | 6/17/2004
Ennis, Kathleen | Erie, PA | 6/17/2004
Fedoruk, Dana | Creekside, PA | 6/17/2004
Felton, Wilbert | Tacoma, WA | 6/17/2004
Fields, Christine | Abbeville, LA | 6/17/2004
Flod, Ramona | Somerset, WI | 6/17/2004
Franzie, John | Sandwich, MA | 6/17/2004
Frazer, Gabrielle | Carlsbad, CA | 6/17/2004
Gage, Renee | Pembroke, MA | 6/17/2004
Gagneaux, Susan | Des Allemands, LA | 6/17/2004
Gneiting, Karen | Rigby, ID | 6/17/2004
Hendricks, Jerry | Salem, IN | 6/17/2004
Hill, Richard | Glendale, AZ | 6/17/2004
Hood, Jerry | Thorsby, AL | 6/17/2004
Horosh, Mildred | Buffalo, NY | 6/17/2004
Jackson, Anna | Philadelphia, PA | 6/17/2004
Johnson, Samuel | Alexandria, VA | 6/17/2004
Katz, Jeffrey | Elmira, NY | 6/17/2004
Knox, Linda | Graysville, AL | 6/17/2004
Landy, John | Philadelphia, PA | 6/17/2004
Ledbetter, Angela | Jamestown, TN | 6/17/2004
Lemich, Boja | Yerington, NV | 6/17/2004
Leos, Jennifer | Gilbert, AZ | 6/17/2004
Lint, Erik | Hanford, CA | 6/17/2004
Lonergan, Dennis | Erie, PA | 6/17/2004
Love, Paula | Crescent City, FL | 6/17/2004
Malberg, Robyn | Twin Falls, ID | 6/17/2004
Martin, Marie | Worcester, MA | 6/17/2004
Maxion, Mary | San Mateo, CA | 6/17/2004
Medina, Celia | Nampa, ID | 6/17/2004
Montgomery, Amy | Montgomery, AL | 6/17/2004
Moreland, Susan | Norfolk, VA | 6/17/2004
Muhammad, Abdul | Stone Mountain, GA | 6/17/2004
Murray, Renee | Opelika, AL | 6/17/2004
Najar, Adel | Bayside, NY | 6/17/2004
O'Dell, Samantha | Martinsville, VA | 6/17/2004
Ornelas, Leonor | Denver, CO | 6/17/2004
Perkins, Junior | New Orleans, LA | 6/17/2004
Perry, Virgil | Stuarts Draft, VA | 6/17/2004
Puryear, Randolph | Bonifay, FL | 6/17/2004
Rivera, Rose | Blue Bell, PA | 6/17/2004
Roomes, Pamela | Providence, RI | 6/17/2004
Runkles, Rachel | Rochester, PA | 6/17/2004
Rybka, Rhonda | Springville, AL | 6/17/2004
Sanders, Justin | Burleson, TX | 6/17/2004
Schreiber, Tina | Deer Park, TX | 6/17/2004
Schuler, Judy | Grass Valley, CA | 6/17/2004
Sheffield, Misty | Millbrook, AL | 6/17/2004
Smalt, Michael | Wayland, NY | 6/17/2004
Smith, Cathleen | Penndel, PA | 6/17/2004
Smith, Marian | Everson, PA | 6/17/2004
Stafford, Denise | Winter Haven, FL | 6/17/2004
Stith, Tashell | Richmond, VA | 6/17/2004
Storm, Susan | Cincinnati, OH | 6/17/2004
Strykowski, Beth | Seabrook, NH | 6/17/2004
Summers, Brenda | Meridian, SC | 6/17/2004
Taylor, Gregory | Catonsville, MD | 6/17/2004
Truskolaski, Michael | Corning, NY | 6/17/2004
Ungvari, Christine | Carmeron Park, CA | 6/17/2004
Ussery, Ronny | Federal Way, WA | 6/17/2004
Vanleer, Jan | Williamstown, NJ | 6/17/2004
Walls, Melanie | Valley, AL | 6/17/2004
Watts, Tina | Star, ID | 6/17/2004
Wilson, Maureen | Camano Island, WA | 6/17/2004
Wyatt, Teresa | Crossville, TN | 6/17/2004
Yates, Julia | Blackridge, VA | 6/17/2004
Federal/State Exclusion/Suspension:
Townsend, Tiffany | Eastport, ME | 6/17/2004
Fraud/Kickbacks:
McCarty, Patricia | Houston, TX | 1/20/2004
Owned/Controlled by Convicted Entities:
Coral Gables Male Ctr, Inc | Coral Gables, FL | 6/17/2004
Emmett Manor, Inc | Emmett, ID | 6/17/2004
Great DME, Inc | Hialeah, FL | 6/17/2004
Gustavo E Coll, MD, PA | Coral Gables, FL | 6/17/2004
Parker Chiropractic Life Ctr, Inc | Akron, OH | 6/17/2004
R W Puryear, DMD, Inc | Bonifay, FL | 6/17/2004
Safe Harbor Counseling | Rigby, ID | 6/17/2004
Superior Medical Wholesalers, Inc | Miami, FL | 6/17/2004
Total Family Eye Care, Inc | Miami, FL | 6/17/2004
Urology, PA | Miami, FL | 6/17/2004
William K Gibson, DMD, PA | Naples, FL | 6/17/2004
Default on Heal Loan:
Ashlock, Ken | Clyde, TX | 6/17/2004
Bonner, Jerry | Irving, TX | 6/17/2004
Carlos, Lester | Castro Valley, CA | 6/17/2004
Coalmon, Perry | Milwaukee, WI | 6/17/2004
Steder, Sandra | San Rafael, CA | 6/17/2004
Stockslager, Viki | Sylvania, OH | 5/3/2004

Dated: June 4, 2004.
Katherine B. Petrowski,
Director, Exclusions Staff, Office of Inspector General.

[FR Doc. 04-13502 Filed 6-15-04; 8:45 am]

BILLING CODE 4150-04-P